DEPARTMENT OF ENERGY

Federal Energy Regulatory Commission

[Docket Nos. RP02-363-008]

North Baja Pipeline, LLC; Notice of Compliance Filing

January 30, 2004.

Take notice that on January 23, 2004, North Baja Pipeline, LLC (NBP) tendered for filing as part of its FERC Gas Tariff, Original Volume No. 1, the tariff sheets listed in Appendix A to the filing. NBP requests that the Commission accept certain of the proposed tariff sheets to be effective August 12, 2002, and the remainder to be effective February 28, 2003.

NBP states that the filing is being made to comply with the Commission's December 24, 2003 Order Denying Rehearing and Clarifying Prior Order and Accepting Compliance Filings Subject to Modification.

NBP further states that a copy of this filing has been served on NBP's jurisdictional customers and interested state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-205 Filed 2-5-04; 8:45 am]

BILLING CODE 6717-01-P